DEPARTMENT OF ENERGY

Federal Energy Regulatory Commission

Combined Notice of Filings

Take notice that the Commission has received the following Natural Gas Pipeline Rate and Refund Report filings:

Filings Instituting Proceedings

Docket Numbers: RP19-1452-000.

Applicants: Algonquin Gas Transmission, LLC.

Description: § 4(d) Rate Filing: Aug 2019 Negotiated Rates Cleanup Filing to be effective 9/1/2019.

Filed Date: 8/2/19.

Accession Number: 20190802-5003.

Comments Due: 5 p.m. ET 8/14/19.

Docket Numbers: RP19-1453-000.

Applicants: Texas Eastern Transmission, LP.

Description: Compliance filing Termination of Rate Schedule X-128 to be effective 9/2/2019.

Filed Date: 8/2/19.

Accession Number: 20190802-5004.

Comments Due: 5 p.m. ET 8/14/19.

Docket Numbers: RP19-1454-000.

Applicants: El Paso Natural Gas Company, L.L.C.

Description: § 4(d) Rate Filing: Negotiated Rate Agreement Update (Conoco Aug 2019) to be effective 8/5/2019.

Filed Date: 8/2/19.

Accession Number: 20190802-5067.

Comments Due: 5 p.m. ET 8/14/19.

Docket Numbers: RP19-238-002.

Applicants: Southwest Gas Transmission Company, A Limited Partnership.

Description: Compliance filing Compliance Filing to Settlement to be effective 8/14/2017.

Filed Date: 8/2/19.

Accession Number: 20190802-5031.

Comments Due: 5 p.m. ET 8/14/19.

Docket Numbers: RP19-1455-000.

Applicants: Gulf South Pipeline Company, LP.

Description: § 4(d) Rate Filing: Perm Cap Rel Related Neg Rate Agmts (PH 41448, 41455 to BP 51410, 51411) to be effective 8/1/2019.

Filed Date: 8/5/19.

Accession Number: 20190805-5082.

Comments Due: 5 p.m. ET 8/19/19.

Docket Numbers: RP19-1456-000.

Applicants: Southern Star Central Gas Pipeline, Inc.

Description: § 4(d) Rate Filing: Vol.2—Negotiated Rate and Non-Conforming Agreement—K2 Commodities to be effective 8/3/2019.

Filed Date: 8/5/19.

Accession Number: 20190805-5094.

Comments Due: 5 p.m. ET 8/19/19.

Docket Numbers: RP19-976-001.

Applicants: Tennessee Gas Pipeline Company, L.L.C.

Description: Compliance filing NAESB Version 3.1 Compliance Filing—Revised Sheet No. 394H to be effective 8/1/2019.

Filed Date: 8/5/19.

Accession Number: 20190805-5073.

Comments Due: 5 p.m. ET 8/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2019.
Kimberly D. Bose,
Secretary.

[FR Doc. 2019-17293 Filed 8-12-19; 8:45 am]

BILLING CODE 6717-01-P